DEPARTMENT OF COMMERCE

International Trade Administration

A-588-837

Large Newspaper Printing Presses and Components Thereof, Whether Assembled or Unassembled, from Japan: Final Results of Reconsideration of Sunset Review

AGENCY: Import Administration, International Trade Administration, Department of Commerce.

SUMMARY: On November 6, 2006, the Department of Commerce (the Department) published a notice of preliminary results of the reconsideration of the sunset review of the antidumping duty order on large newspaper printing presses and components thereof, whether assembled or unassembled (LNPP), from Japan (71 FR 64927), following the requirements of section 751(c) of the Tariff Act of 1930, as amended (the Act). We provided interested parties an opportunity to comment on our preliminary results. We received case and rebuttal briefs from domestic and foreign interested parties, and we held a public hearing. As a result of this review, the Department finds that revocation of the order on LNPP from Japan after the original sunset review period of 1996-2001 would have likely led to the continuation or recurrence of dumping at the levels indicated in the “Final Results of Review” section of this notice.

EFFECTIVE DATE: November 13, 2008.

FOR FURTHER INFORMATION CONTACT: David Goldberger or Kate Johnson, AD/CVD Operations, Office 2, Import Administration, International Trade Administration, U.S. Department of Commerce, 14th Street & Constitution Avenue, NW, Washington, DC, 20230; telephone: 202-482-4136 or 202-482-4929, respectively.

SUPPLEMENTARY INFORMATION:

Scope of the Order

The products covered by the scope of the order are large newspaper printing presses, including press systems, press additions and press components, whether assembled or unassembled, whether complete or incomplete, that are capable of printing or otherwise manipulating a roll of paper more than two pages across. A page is defined as a newspaper broadsheet page in which the lines of type are printed perpendicular to the running of the direction of the paper or a newspaper tabloid page with lines of type parallel to the running of the direction of the paper.

In addition to press systems, the scope of the order includes the five press system components. They are: (1) a printing unit, which is any component that prints in monocolor, spot color and/or process (full) color; (2) a reel tension paster (RTP), which is any component that feeds a roll of paper more than two newspaper broadsheet pages in width into a subject printing unit; (3) a folder, which is a module or combination of modules capable of cutting, folding, and/or delivering the paper from a roll or rolls of newspaper broadsheet paper more than two pages in width into a newspaper format; (4) conveyance and access apparatus capable of manipulating a roll of paper more than two newspaper broadsheet pages across through the production process and which provides structural support and access; and (5) a computerized control system, which is any computer equipment and/or software designed specifically to control, monitor, adjust, and coordinate the functions and operations of large newspaper printing presses or press components.

A press addition is comprised of a union of one or more of the press components defined above and the equipment necessary to integrate such components into an existing press system.

Because of their size, large newspaper printing press systems, press additions, and press components are typically shipped either partially assembled or unassembled, complete or incomplete, and are assembled and/or completed prior to and/or during the installation process in the United States. Any of the five components, or collection of components, the use of which is to fulfill a contract for large newspaper printing press systems, press additions, or press components, regardless of degree of assembly and/or degree of combination with non-subject elements before or after importation, is included in the scope of the order. Also included in the scope are elements of a LNPP system, addition or component, which taken altogether, constitute at least 50 percent of the cost of manufacture of any of the five major LNPP components of which they are a part.

For purposes of the scope, the following definitions apply irrespective of any different definition that may be found in customs rulings, U.S. Customs law or the Harmonized Tariff Schedule of the United States (HTSUS): (1) the term “unassembled” means fully or partially unassembled or disassembled; and (2) the term “incomplete” means lacking one or more elements with which the LNPP is intended to be equipped in order to fulfill a contract for a LNPP system, addition or component.

This scope does not cover spare or replacement parts. Spare or replacement parts imported pursuant to a LNPP contract, which are not integral to the original start-up and operation of the LNPP, and are separately identified and valued in a LNPP contract, whether or not shipped in combination with covered merchandise, are excluded from the scope of the order. Used presses are also not subject to this scope. Used presses are those that have been previously sold in an arm's-length transaction to a purchaser that used them to produce newspapers in the ordinary course of business.

Also excluded from the scope, in accordance with the Department's determination in a previous changed circumstances review of the antidumping duty order which resulted in the partial revocation of the order with respect to certain merchandise, are elements and components of LNPP systems, and additions thereto, which feature a 22-inch cut-off, 50-inch web width and a rated speed no greater than 75,000 copies per hour. See Large Newspaper Printing Presses Components Thereof, Whether Assembled or Unassembled, from Japan: Final Results of Changed Circumstances Antidumping Duty Administrative Review and Intent to Revoke Antidumping Duty Order, In Part, 64 FR 72315 (December 27, 1999). In addition to the specifications set out in this paragraph, all of which must be met in order for the product to be excluded from the scope of the order, the product must also meet all of the specifications detailed in the five numbered sections following this paragraph. If one or more of these criteria is not fulfilled, the product is not excluded from the scope of the order.

1. Printing Unit: A printing unit which is a color keyless blanket-to-blanket tower unit with a fixed gain infeed and fixed gain outfeed, with a rated speed no greater than 75,000 copies per hour, which includes the following features:

• Each tower consisting of four levels, one or more of which must be populated.

• Plate cylinders which contain slot lock-ups and blanket cylinders which contain reel rod lock-ups both of which are of solid carbon steel with nickel plating and with bearers at both ends which are configured in-line with bearers of other cylinders.

• Keyless inking system which consists of a passive feed ink delivery system, an eight roller ink train, and a non-anilox and non-porous metering roller.

• The dampener system which consists of a two nozzle per page spraybar and two roller dampener with one chrome drum and one form roller.

• The equipment contained in the color keyless ink delivery system is designed to achieve a constant, uniform feed of ink film across the cylinder without ink keys. This system requires use of keyless ink which accepts greater water content.

2. Folder: A module which is a double 3:2 rotary folder with 160 pages collect capability and double (over and under) delivery, with a cut-off length of 22 inches. The upper section consists of three-high double formers (total of 6) with six sets of nipping rollers.

3. RTP: A component which is of the two-arm design with core drives and core brakes, designed for 50 inch diameter rolls; and arranged in the press line in the back-to-back configuration (left and right hand load pairs).

4. Conveyance and Access Apparatus: Conveyance and access apparatus capable of manipulating a roll of paper more than two newspaper broadsheets across through the production process, and a drive system which is of conventional shafted design.

5. Computerized Control System: A computerized control system, which is any computer equipment and/or software designed specifically to control, monitor, adjust, and coordinate the functions and operations of large newspaper printing presses or press components.

Further, the scope covers all current and future printing technologies capable of printing newspapers, including, but not limited to, lithographic (offset or direct), flexographic, and letterpress systems. The products covered by the scope are imported into the United States under subheadings 8443.11.10, 8443.11.50, 8443.30.00, 8443.59.50, 8443.60.00, and 8443.90.50 of the HTSUS. Large newspaper printing presses may also enter under HTSUS subheadings 8443.21.00 and 8443.40.00. Large newspaper printing press computerized control systems may enter under HTSUS subheadings 8471.49.10, 8471.49.21, 8471.49.26, 8471.50.40, 8471.50.80, and 8537.10.90. Although the HTSUS subheadings are provided for convenience and customs purposes, our written description of the scope of the order is dispositive.

Background

On November 6, 2006, the Department published in the Federal Register a notice of preliminary results of the reconsideration of sunset review of the antidumping duty order on LNPP from Japan, following the requirements of section 751(c) of the Act. See Large Newspaper Printing Presses and Components Thereof, Whether Assembled or Unassembled, from Japan: Preliminary Results of Reconsideration of Sunset Review, 71 FR 64927 (November 6, 2006) (Preliminary Results). In our Preliminary Results, we determined that, for purposes of this reconsideration of the sunset review, had the antidumping duty order not been revoked in Large Newspaper Printing Presses and Components Thereof, Whether Assembled or Unassembled, from Japan (A-588-837) and Germany (A-428-821): Notice of Final Results of Five-Year Sunset Reviews and Revocation of Antidumping Duty Orders, 67 FR 8522 (February 25, 2002) (2002 Sunset Review), revocation of the antidumping duty order on LNPP from Japan would have likely led to continuation or recurrence of dumping with a margin of 59.67 percent for Mitsubishi Heavy Industries, Ltd. (MHI), 51.97 percent for Tokyo Kikai Seisakusho, Ltd. (TKS), and an all-others rate of 55.05 percent.

On December 6, 2006, MHI, TKS, and the domestic interested party, Goss International Corporation (known as Goss Graphics Systems Inc. during the period of the 2002 Sunset Review) (Goss) submitted case briefs in response to the Department's preliminary results. TKS and Goss submitted rebuttal comments on December 11, 2006. We held a public hearing on December 18, 2006.

On January 24, 2007, the Court of International Trade (CIT) issued its decision in Tokyo Kikai Seisakusho, Ltd. v. United States, 473 F. Supp. 2d 1349, 1364 (Ct. Int'l Trade 2007), and ordered the Department to “discontinue any action in regard to a reconsideration” of the sunset review. In accordance with that decision, the Department discontinued action with respect to its reconsideration of the sunset review. See Large Newspaper Printing Presses and Components Thereof, Whether Assembled or Unassembled, from Japan: Discontinuation of Reconsideration of Sunset Review, 72 FR 9730 (March 5, 2007).

On June 17, 2008, the Court of Appeals for the Federal Circuit (CAFC) reversed the CIT's decision directing the Department to discontinue its sunset review reconsideration. The CAFC held that the issue was not ripe for judicial review and that the CIT erred in finding that the Department's stated intention to reopen the sunset review proceeding (in the context of the March 2006 changed circumstances review final results) was final agency action. See Tokyo Kikai Seisakusho, Ltd. v. United States, 529 F.3d 1352 (Fed. Cir. 2008). Accordingly, the Department resumed its reconsideration of the sunset review. See Large Newspaper Printing Presses and Components Thereof, Whether Assembled or Unassembled, from Japan: Resumption of Reconsideration of Sunset Review, 73 FR 57059 (October 1, 2008).

Analysis of Comments Received

All issues raised in the case and rebuttal briefs by parties to this sunset review are addressed in the “Issues and Decision Memorandum” (Decision Memo) to David M. Spooner, Assistant Secretary for Import Administration, which is hereby adopted and incorporated by reference into this notice. Parties can find a discussion of the issues raised for the final results of this reconsideration of the sunset review and the corresponding recommendations in this public memorandum, which is on file in the Central Records Unit, room 1117 of the main Department building. In addition, a complete version of the Decision Memo can be accessed directly on the Web at http://ia.ita.doc.gov/frn. The paper copy and electronic version of the Decision Memo are identical in content.

Final Results of Review

We determine that, for purposes of this reconsideration of the sunset review, had the antidumping duty order not been revoked in the 2002 Sunset Review, revocation of the antidumping duty order on LNPP from Japan would have likely led to continuation or recurrence of dumping at the following weighted-average margins:

Manufacturers/Producers/Exporters | Weighted-Average Margin (Percent)
Mitsubishi Heavy Industries, Ltd. | 59.67
Tokyo Kikai Seisakusho, Ltd. | 51.97
All Others | 55.05

This notice serves as the only reminder to parties subject to administrative protective order (“APO”) of their responsibility concerning the disposition of proprietary information disclosed under APO in accordance with 19 CFR 351.305. Timely notification of return/destruction of APO materials or conversion to judicial protective order is hereby requested. Failure to comply with the regulations and the terms of an APO is a sanctionable violation.

This reconsideration of sunset review and notice are in accordance with sections 751(c), 752, and 777(i)(1) of the Act.

Dated: November 6, 2008.
David M. Spooner,
Assistant Secretary for Import Administration.

[FR Doc. E8-26987 Filed 11-12-08; 8:45 am]

BILLING CODE 3510-DS-S